DEPARTMENT OF COMMERCE

National Oceanic and Atmospheric Administration

RIN 0648-XZ19

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that an EFP application from the University of New England (UNE) contains all the required information and warrants further consideration. The EFP would allow three commercial fishing vessels to possess spiny dogfish (dogfish) during Federal quota closures in support of a study on their reproductive biology. The Assistant Regional Administrator has also made a preliminary determination that the activities authorized under the EFP would be consistent with the goals and objectives of the Spiny Dogfish Fishery Management Plan (FMP). However, further review and consultation may be necessary before a final determination is made.

Regulations under the Magnuson-Stevens Fishery Conservation and Management Act require publication of this notification to provide interested parties the opportunity to comment on EFP applications.

DATES: Comments must be received on or before October 25, 2010.

ADDRESSES: Comments may be submitted by e-mail. The mailbox address for providing e-mail comments is nero.efp@noaa.gov. Include in the subject line of the e-mail comment the following document identifier: “Comments on UNE dogfish possession EFP.” Written comments should be sent to Patricia A. Kurkul, Regional Administrator, NMFS, Northeast Regional Office, 55 Great Republic Drive, Gloucester, MA 01930. Mark the outside of the envelope, “Comments on UNE dogfish possession EFP.” Comments may also be sent via facsimile (fax) to (978) 281-9135.

FOR FURTHER INFORMATION CONTACT: Lindsey Feldman, Fishery Management Specialist, phone: 978-675-2179, fax: 978-281-9135.

SUPPLEMENTARY INFORMATION: The EFP would exempt federally permitted commercial fishing vessels from dogfish closures while conducting research for the University of New England. The EFP would temporarily exempt participating vessels from dogfish quota closures, in limited situations for research purposes only, to retain dogfish that would otherwise be prohibited. No dogfish will be landed for sale when the fishery is closed.

The FMP implemented a semi-annual quota for the commercial dogfish fishery; when a semi-annual quota is projected to be harvested, NMFS closes the fishery until the next semi-annual quota opens. During a dogfish closure, no vessel may fish for or possess dogfish. A dogfish closure is currently in effect through October 31, 2010.

As part of a continuing research project, UNE is investigating the reproductive biology of dogfish along the U.S. Atlantic coast. UNE will investigate previously observed regional anomalies in dogfish reproductive biology. Investigators from UNE aim to update information known on the gestation period for dogfish; in particular whether the current estimate of 22 months for gestation has been overestimated. Data from the research would provide more detailed life history information on dogfish that could potentially be used to fine tune stock assessments and management plans for dogfish in the Northwest Atlantic.

The applicant would collect 150 female dogfish samples per month (one year total), 50 each from the Gulf of Maine (GOM), waters off New Jersey (NJ), and waters off North Carolina (NC). The total number of dogfish landed under this EFP would not exceed 1,800 individuals. Samples would be collected during regular commercial fishing operations, in areas open to commercial fishing for species other than spiny dogfish. Vessels would fish with otter trawls that are fully compliant with applicable regulations and adhere to the following conditions: Possess 150 or fewer dogfish per trip; all live dogfish bycatch would be returned to the ocean as quickly as possible; no dogfish may be landed for sale; dogfish would not be targeted during the fishing trips.

Participating vessels would be exempt from the spiny dogfish fishery closure regulations at 50 CFR 648.231 and required to comply with all other applicable requirements and restrictions specified at 50 CFR part 648.

The applicant may make requests to NMFS for minor modifications and extensions to the EFP throughout the year. EFP modifications and extensions may be granted by NMFS without further notice if they are deemed essential to facilitate completion of the proposed research and result in only a minimal change in the scope or impact of the initially approved EFP request. In accordance with NOAA Administrative Order 216-6, a Categorical Exclusion or other appropriate NEPA document would be completed prior to the issuance of the EFP. Further review and consultation may be necessary before a final determination is made to issue the EFP. After publication of this document in the Federal Register, the EFP, if approved, may become effective following a 15-day public comment period.

Authority: 16 U.S.C. 1801 et seq.

Dated: October 5, 2010.
Carrie Selberg,
Acting Director, Office of Sustainable Fisheries, National Marine Fisheries Service.

[FR Doc. 2010-25435 Filed 10-7-10; 8:45 am]

BILLING CODE 3510-22-P